DEPARTMENT OF TRANSPORTATION

Federal Aviation Administration

Subject of Intent To Rule on Application To Impose and Use the Revenue From A Passenger Facility Charge (PFC) at Orlando International Airport, Orlando, Florida

AGENCY: Federal Aviation Administration (FAA), DOT.

ACTION: Notice of intent to rule on application.

SUMMARY: The FAA proposes to rule and invites public comment on the application to impose and use the revenue from a PFC at Orlando International Airport under the provisions of the Aviation Safety and Capacity Expansion Act of 1990 (Title IX of the Omnibus Budget Reconciliation Act of 1990) (Public Law 101-508) and part 158 of the Federal Aviation Regulations (14 CFR part 158).

DATES: Comments must be received on or before January 4, 2002.

ADDRESSES: Comments on this application may be mailed or delivered in triplicate to the FAA at the following address: Orlando Airports District Office, 5950 Hazeltine National Dr., Suite 400, Orlando, FL 32822.

In addition, one copy of any comments submitted to the FAA must be mailed or delivered to Mr. C.W. Jennings, Executive Director of the Greater Orlando Aviation Authority at the following address: Mr. C.W. Jennings, Executive Director, Greater Orlando Aviation Authority, One Airport Boulevard, Orlando, FL 32827-4399.

Air carriers and foreign air carriers may submit copies of written comments previously provided to the Greater Orlando Aviation Authority under section 158.23 of part 158.

FOR FURTHER INFORMATION CONTACT: Mr. Bud Jackman, Program Manager, Orlando Airports District Office, 5950 Hazeltine National Dr., Suite 400, Orlando, FL 32822, (407) 812-6331, x22. The application may be reviewed in person at this same location.

SUPPLEMENTARY INFORMATION: The FAA proposes to rule and invites public comment on the application to impose and use the revenue from a PFC at Orlando International Airport under the provisions of the Aviation Safety and Capacity Expansion Act of 1990 (Title IX of the Omnibus Budget Reconcilitation Act of 1990) (Public Law 101-508) and part 158 of the Federal Aviation Regulations (14 CFR part 158).

On November 21, 2001, the FAA determined that the application to impose and use the revenue from a PFC submitted by the Greater Orlando Aviation Authority was substantially complete within the requirements of section 158.25 of part 158. The FAA will approve or disapprove the application, in whole or in part, no later than March 14, 2002.

The following is a brief overview of the application.

PFC Application No.: 02-09-C-00-MCO.

Level of the proposed PFC: $3.00.

Proposed charge effective date: Februrary 1, 2014.

Proposed charge expiration date: February 1, 2017.

Total estimated net PFC revenue: $219,494,000.

Brief description of proposed projoect(s):

Landside Terminal Level 1 Modifications,

Six Bank Elevator Improvements,

Baggage Conveyor System—Landside Levels 1&2,

Central Plant Improvements Phase 3,

Fourth Runway (9,000 ft by 150 ft),

Drainage Improvements (Wildlife Attractants Mitigation),

Intermodal Transit System (ITS),

Replacement of 180,000 LF of Pavement Joints for Runway 17-35,

Satellite Aircraft Rescue and Fire Fighting (ARFF) Facility,

800 MHz Radio System—Digital Upgrade,

Baggage Sorting System Upgrade,

Taxiway Lighting Improvements,

Mobile Command Post,

Surface Movement Guidance Control System,

Automated Guide way Transit (AGT) Rehabilitation Program,

Emergency Operations Center,

Aircraft Rescue and Fire Fighting (ARFF) Vehicles.

Class or classes of air carriers which the public agency has requested not be required to collect PFCs: None.

Any person may inspect the application in person at the FAA office listed above under FOR FURTHER INFORMATION CONTACT.

In addition, any person may, upon request, inspect the application, notice and other documents germane to the application in person at the Greater Orlando Aviation Authority.

Dated: Issued in Orlando, Florida on November 28, 2001.
W. Dean Stringer,
Manager, Orlando Airports District Office, Southern Region.

[FR Doc. 01-30177 Filed 12-4-01; 8:45 am]

BILLING CODE 4910-13-M